DEPARTMENT OF COMMERCE

Foreign-Trade Zones Board

[S-87-2013]

Foreign-Trade Zone 262—Southaven, Mississippi; Application for Subzone; Milwaukee Electric Tool Corporation; Olive Branch, Greenwood and Jackson, Mississippi

An application has been submitted to the Foreign-Trade Zones (FTZ) Board by Northern Mississippi FTZ, Inc., grantee of FTZ 262, requesting special-purpose subzone status for the facilities of Milwaukee Electric Tool Corporation (METCO) located in Olive Branch, Greenwood and Jackson, Mississippi. The application was submitted pursuant to the provisions of the Foreign-Trade Zones Act, as amended (19 U.S.C. 81a-81u), and the regulations of the FTZ Board (15 CFR part 400). It was formally docketed on June 5, 2013.

The proposed subzone would consist of the following sites: Site 1 (39 acres)—Olive Branch Distribution/Kitting Facility, 12385 Crossroads Drive, Olive Branch (DeSoto County); Site 2 (16 acres)—Greenwood Manufacturing Facility, 1003 Sycamore Street, Greenwood (Leflore County); and, Site 3 (12 acres)—Jackson Manufacturing Facility, 4355 Milwaukee Street, Jackson (Hinds County). A notification of proposed production activity has been docketed (B-22-2013). The proposed subzone would be subject to the existing activation limit of FTZ 262.

In accordance with the FTZ Board's regulations, Camille Evans of the FTZ Staff is designated examiner to review the application and make recommendations to the Executive Secretary.

Public comment is invited from interested parties. Submissions shall be addressed to the FTZ Board's Executive Secretary at the address below. The closing period for their receipt is July 22, 2013. Rebuttal comments in response to material submitted during the foregoing period may be submitted during the subsequent 15-day period to August 5, 2013.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Camille Evans at Camille.Evans@trade.gov or (202) 482-2350.

Dated: June 5, 2013.
Andrew McGilvray,
Executive Secretary.

[FR Doc. 2013-13868 Filed 6-10-13; 8:45 am]

BILLING CODE 3510-DS-P